DEPARTMENT OF COMMERCE

National Oceanic and Atmospheric Administration

Request for Public Comment on Report on Microfiber Pollution

AGENCY: National Ocean Service (NOS), National Oceanic and Atmospheric Administration (NOAA), Department of Commerce (DOC).

ACTION: Notice of request for comments.

SUMMARY: NOAA's Marine Debris Program and Environmental Protection Agency's (EPA) Trash Free Waters Program, on behalf of the Interagency Marine Debris Coordinating Committee (IMDCC), is soliciting public comments regarding the draft Report on Microfiber Pollution. The Save Our Seas 2.0 Act of 2020 requires the IMDCC to complete a report on microfiber pollution. This Report will provide Congress with an overview of the microfiber pollution issue, while also outlining a path forward for Federal agencies, in partnership with other stakeholders, to address this problem.

DATES: Comments must be received on or before October 17, 2022, 11:59 p.m. Eastern Time (ET).

ADDRESSES: Comments may be submitted by the following method: Federal eRulemaking Portal: https://www.regulations.gov. Submit electronic comments via the Federal eRulemaking Portal and search for Docket Number NOAA-NOS-2022-0061.

Instructions: All comments received are a part of the public record. All personal identifying information (for example, name and address) voluntarily submitted by the commenter may be publicly accessible. Do not submit confidential business information or otherwise sensitive or protected information. NOAA will accept anonymous comments (enter N/A in the required fields to remain anonymous).

FOR FURTHER INFORMATION CONTACT: Ya'el Seid-Green, Executive Secretariat, IMDCC, Marine Debris Program; Phone 240-533-0399; Email yael.seid-green@noaa.gov or visit the IMDCC website at https://marinedebris.noaa.gov/IMDCC.

SUPPLEMENTARY INFORMATION:

Background

The IMDCC is a multi-agency body responsible for coordinating a comprehensive program of marine debris research and activities among Federal agencies, in cooperation and coordination with non-governmental organizations, industry, academia, States, Tribes, and other nations, as appropriate. Representatives meet to share information, assess and promote best management practices, and coordinate the Federal Government's efforts to address marine debris. The IMDCC was established in 2006 by the Marine Debris Act (33 U.S.C. 1954). The NOAA representative serves as the Chairperson of the Committee.

Why develop the report on microfiber pollution?

Section 132 of the Save Our Seas 2.0 Act of 2020 (Pub. L. 116-224) requires the IMDCC to complete a report on microfiber pollution that includes: (1) a definition of microfiber; (2) an assessment of the sources, prevalence, and causes of microfiber pollution; (3) a recommendation for a standardized methodology to measure and estimate the prevalence of microfiber pollution; (4) recommendations for reducing microfiber pollution; and (5) a plan for how Federal agencies, in partnership with other stakeholders, can lead on opportunities to reduce microfiber pollution during the 5-year period beginning on the date of the Act's enactment. This Report will provide Congress with an overview of the microfiber pollution issue, while also outlining a path forward for Federal agencies, in partnership with other stakeholders, to address this problem.

Microfibers have been found almost everywhere that scientists look, including in surface waters and throughout the water column, sea ice, deep-sea and coastal sediments, terrestrial soils, and indoor and outdoor air and dust. These fibers are released from clothing, carpets, cigarette butts, and other fiber-based products and are one of the most pervasive types of microplastics found in many environmental compartments. However, additional research is needed to improve our understanding of microfiber sources, pathways, fates, and impacts so that effective mitigation strategies and prevention measures can be developed. Microfibers are a highly complex and diverse type of contaminant and research on the subject is particularly challenging due to a lack of standard definitions and research methods, which make comparisons across studies difficult. In the course of addressing the five requirements specified in Section 132 of the Save Our Seas 2.0 Act, this report also provides an in-depth review of these topics, recommendations for addressing research data gaps, and solutions to mitigate this source of pollution.

Summary of the Report on Microfiber Pollution

NOAA's Marine Debris Program and the EPA's Trash Free Waters Program co-led the development of this report on behalf of the IMDCC, with support from the consulting firm, Materevolve. The draft report is approximately 90 pages in length. Section 1 of the report provides an introduction to the report and microfiber pollution issue. Section 2 focuses on establishing a proposed definition of `microfiber'. This section summarizes existing definitions from the environmental science, textile industry, and government sectors, and explains the issues that complicate efforts to define the term `microfiber'. It proposes an initial definition of microfiber that can serve as a starting point for building consensus around a standard definition that could be adopted by the United States Government. Section 3 of the report covers an assessment of the sources, pathways, and prevalence of microfiber pollution in the environment. Environmental and human health impacts from microfiber pollution are also discussed. Section 4 covers the challenges and data gaps associated with creating standardized methodologies to measure and estimate the prevalence of microfiber pollution and recommendations for overcoming these challenges and data gaps. Section 5 provides an overview of current solutions for addressing the issue of microfiber pollution. Section 6 covers key research needs and recommendations. Section 7 contains a plan for how Federal agencies, in partnership with other stakeholders, can lead on opportunities to reduce microfiber pollution over a 5-year period. This plan was developed in collaboration with representatives from twelve Federal agencies.

How Comments Will Be Addressed

NOAA's Marine Debris Program and EPA's Trash Free Waters Program, on behalf of the IMDCC, invite comments, feedback, and recommendations on the Report on Microfiber Pollution, including Section 7, which contains a plan that outlines opportunities to reduce microfiber pollution. Following the comment period, the feedback provided will be reviewed and the report will be updated as necessary. An appendix will be added to the report describing how comments from the public comment period were incorporated into the report. The final report will be posted to https://marinedebris.noaa.gov/our-work/IMDCC.

Scott Lundgren,
Director, Office of Response and Restoration, National Ocean Service, National Oceanic and Atmospheric Administration.

[FR Doc. 2022-19939 Filed 9-14-22; 8:45 am]

BILLING CODE 3510-NK-P